FEDERAL COMMUNICATIONS COMMISSION

Radio Broadcasting Services; AM or FM Proposals To Change the Community of License

AGENCY: Federal Communications Commission.

ACTION: Notice.

SUMMARY: The following applicants filed AM or FM proposals to change the community of license: AMERICAN FAMILY ASSOCIATION, Station WSQH, Facility ID 91176, BMPED-20100126AFU, From MERIDIAN, MS, To DECATUR, MS; AUTAUGAVILLE RADIO, INC., Station WKXN, Facility ID 73194, BPH-20100106AFK, From GREENVILLE, AL, To FORT DEPOSIT, AL; BETTER PUBLIC BROADCASTING ASSOCIATION, Station KLXL, Facility ID 174505, BPED-20100125AAF, From WHEELER, TX, To BRISCOE, TX; CALVARY CHAPEL OF TWIN FALLS, INC., Station WIFF, Facility ID 2868, BPED-20091221AFJ, From BINGHAMTON, NY, To WINDSOR, NY; COCHISE BROADCASTING, LLC, Station KXJW, Facility ID 171027, BMPH-20080319ADW, From SINCLAIR, WY, To NORTH ROCK SPRINGS, WY; COMMANDER COMMUNICATIONS CORPORATION, Station WRTM-FM, Facility ID 19864, BPH-20100107AAB, From PORT GIBSON, MS, To SHARON, MS; EQUINOX BROADCASTING CORP, Station WRRQ, Facility ID 165347, BPH-20091221AIT, From WINDSOR, NY, To PORT DICKINSON, NY; LORENZ E. PROIETTI, Station KMQS, Facility ID 166044, BPH-20100104AAK, From WHEATLAND, WY, To WEST LARAMIE, WY; SIMMONS AUSTIN, LS, LLC, Station KRQX-FM, Facility ID 21494, BPH-20091211AFR, From MEXIA, TX, To MART, TX; TELEMEDIA BROADCASTING, INC., Station WGRQ, Facility ID 64922, BPH-20100120ACQ, From COLONIAL BEACH, VA, To FAIRVIEW BEACH, VA; TELIKOJA EDUCATIONAL BROADCASTING, INC., Station WFUZ, Facility ID 91944, BPED-20100105AAL, From CARBONDALE, PA, To TUNKHANNOCK, PA; TUGART PROPERTIES, LLC, Station WNGA, Facility ID 26854, BMPH-20091008AEA, From HELEN, GA, To CLERMONT, GA; UNITED STATES CP, LLC, Station KRYE, Facility ID 164276, BPH-20100125AIM, From RYE, CO, To OLNEY SPRINGS, CO.

DATES: Comments may be filed through April 12, 2010.

ADDRESSES: Federal Communications Commission, 445 Twelfth Street, SW., Washington, DC 20554.

FOR FURTHER INFORMATION CONTACT: Tung Bui, 202-418-2700.

SUPPLEMENTARY INFORMATION: The full text of these applications is available for inspection and copying during normal business hours in the Commission's Reference Center, 445 12th Street, SW., Washington, DC 20554 or electronically via the Media Bureau's Consolidated Data Base System, http://svartifoss2.fcc.gov/prod/cdbs/pubacc/prod/cdbs_pa.htm. A copy of this application may also be purchased from the Commission's duplicating contractor, Best Copy and Printing, Inc., 445 12th Street, SW., Room CY-B402, Washington, DC, 20554, telephone 1-800-378-3160 or http://www.BCPIWEB.com.

James D. Bradshaw,
Deputy Chief, Audio Division, Media Bureau, Federal Communications Commission.

[FR Doc. 2010-2774 Filed 2-8-10; 8:45 am]

BILLING CODE 6712-01-P